DEPARTMENT OF AGRICULTURE

Forest Service

White/White Project, Clearwater National Forest, Idaho County, ID

AGENCY: Forest Service, USDA.

ACTION: Notice of intent to prepare an environmental impact statement.

SUMMARY: The USDA, Forest Service, will prepare an Environmental Impact Statement (EIS) to disclose the environmental effect of timber harvest and watershed restoration activities in the White/White project area on the Lochsa Ranger District of the Clearwater National Forest. The White/White project area is located in the Nevada Creek, Mike White Creek, Utah Creek, White Creek, Chamook Creek drainages, a tributaries to Lolo Creek, approximately 12 air-miles southeast of the town of Pierce, Idaho.

DATES: This project was previously scoped in August 2, 1999 and rescoped in May 24, 2001. The comments that were received from the White/White EA will be included in the documentation for the EIS. A 45-day public comment period will follow the release of the draft environmental impact statement that is expected in January 2006. The final environmental impact statement is expected in April 2006.

ADDRESSES: Written comments and suggestions concerning the scope of this project should be sent to Steve Bess (sbess@fs.fed.us), Project Leader, Lochsa Ranger District, Rt. 1, Box 398, Kooskia, ID 83539.

FOR FURTHER INFORMATION CONTACT: Steve Bess (sbess@fs.fed.us), Project Leader, Lochsa Ranger District, Phone: (208) 926-4274.

SUPPLEMENTARY INFORMATION: The original White/White analysis was documented in an Environmental Assessment, followed by a Decision Notice and Finding of No Significant Impact on June 3, 2003. The decision was withdrawn on October 17, 2005, in favor of proceeding with an Environmental Impact Statement.

The White/White project area contains approximately 7,000 acres, all on National Forest lands. The legal location is in portions of Sections 9, 10, 14, 15, 16, 17, 20, 21, 22, 23, 28, 29, 32, 33, and 34, T35N, R6E; Sections 4 and 5, T34N, R6E; Boise Meridian, Idaho County, Idaho. The proposed actions would occur on National Forest lands and are all outside the boundaries of any inventoried roadless area or any areas considered for inclusion to the National Wilderness System as recommended by the Clearwater National Forest Plan or by any past or present legislative wilderness proposals.

Purpose and Need for Action is to: (1) Improve forest health, maintain, and/or restore ecological processes, functions, forest structure, and composition expected to occur today and in the future under natural disturbance regimes by: (a) Emulating the scale of natural disturbance patterns through management activities; (b) re-establishing white pine and larch as a major component of the forest ecosystem; (c) reducing vegetative density to allow for increased tree vigor and vegetative health; (d) changing the tree species mix to a greater percent of early serial intolerant species which are more fire adapted and generally more disease resistant and which more closely emulates the historic species composition of the landscape; (2) restore the aquatic ecosystem to a more natural process and functioning condition by: (a) Reducing road density through the decommissioning of roads not necessary for future management; (b) replacing inadequate culverts that hinder stream connectivity for aquatic organisms; (c) placing roads into long-term storage (pulling culverts, waterbarring, seeding and fertilizing) that are not currently needed but will be needed for future management; and (3) managing the landscape to provide for goods and services deemed important to society.

The Proposed Action would harvest timber through regeneration harvest, commercial thinning, and jackpot burning on approximately 1,215 acres of forestland within the project area. Regeneration harvest (510 acres) would leave approximately 15-20 trees per acre as individual trees and/or in groups to provide a continued source of nutrients and organic material to the soils to maintain site productivity and to provide future snags and down woody material for wildlife habitat. Commercial thinning (655 acres) would reduce the basal area in dense timbered stands down to about 160-180 square feet per acre. Jackpot burning on approximately 50 acres would improve the stand composition by creating openings that can be planted with seral species. There is also an opportunity to precommercial thin approximately 1,740 acres of young stands scattered throughout the project area. Use of existing, temporary, and permanent roads would be needed to access timber harvest areas. An estimated 1.73 miles of existing roads would be reconstructed in addition to 0.5 miles of new specified road constructed to facilitate timber removal. An estimated 1.81 miles of temporary roads would be constructed and obliterated following completion of sale related activities. Watershed restoration activities would consist of an estimated 20.4 miles of roads decommissioned and 14.9 miles of existing roads put into intermittent storage (self-maintaining). This would reduce motorized access by 35.3 miles.

Possible Alternatives the Forest Service will consider including the “no action” alternative in which none of the proposed activities would be implemented. Additional alternatives being considered examine varying levels and locations for the proposed activities to achieve the proposal's purpose and need, as well as to respond to the issues and other resource concerns.

The Responsible Official is the Forest Supervisor of the Clearwater National Forest, 12730 Highway 12, Orofino, ID 83544. The Responsible Official will decide if the proposed project will be implemented and will document the decision and reasons for the decision in a Record of Decision. That decision will be subject to Forest Service Appeal Regulations. The responsibility for preparing the DEIS and FEIS has been delegated to Cindy Lane, District Ranger, Lochsa Ranger District, Rt. 1 Box 398, Kooskia, ID 83539.

The Scoping Process was initiated with the release of a Scoping Letter in August 1999, April 2001 and comments received during the 30-day comment period of the EA March 2003. Comments received as a result of that effort will be included in the documentation for the EIS. Additional scoping will follow the release of the DEIS, expected in January 2006. This proposal also includes openings greater than 40 acres. A 60-day public review period was initiated with the scoping of this project on May 16, 2001. Approval to exceed the 40-acre limitation was received from the Regional Forester on March 21, 2003.

Preliminary Issues that could be affected by proposed activities include aesthetics/scenery; air quality; economics; fuels treatment; future management accessibility; heritage resources; old growth; retention of live and dead trees; riparian areas; size of openings; soil compaction and productivity; threatened, endangered, sensitive, and management indicator specifies of wildlife, fish and plants; tribal treaty rights; and water quality.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: October 19, 2005.
Thomas K. Reilly,
Forest Supervisor.

[FR Doc. 05-21334 Filed 10-25-05; 8:45 am]

BILLING CODE 3410-11-M